FEDERAL COMMUNICATIONS COMMISSION

47 CFR Part 63

[WC Docket No. 02-313; DA 08-2112; FCC 06-86]

Biennial Regulatory Review of Regulations Administered by the Wireline Competition Bureau

AGENCY: Federal Communications Commission.

ACTION: Correcting amendments.

SUMMARY: This document contains corrections to the final regulations, which were published in the Federal Register on November 9, 2006, 71 FR 65743. The regulations related to rules that apply to the operations and activities of providers of telecommunications services.

DATES: Effective on September 30, 2008.

FOR FURTHER INFORMATION CONTACT: Nicholas Degani, Wireline Competition Bureau, Competition Policy Division, at (202) 418-2277 or via the Internet at nicholas.degani@fcc.gov.

SUPPLEMENTARY INFORMATION:

Background

The Commission published a document in the Federal Register on November 9, 2006, 71 FR 65743, summarizing the Commission's Report and Order in WC Docket No. 02-313, released August 21, 2006. The Report and Order included drafting errors regarding where to send comments on the proposed discontinuance, reduction, or impairment of domestic service by a common carrier. On September 17, 2008, the Commission published an erratum correcting the drafting errors.

Need for Correction

As published, the final regulations contain errors in the Commission's zip code.

List of Subjects in 47 CFR Part 63

Telecommunications, Telephone.

Federal Communications Commission.
Marlene H. Dortch,
Secretary.

Accordingly, 47 CFR part 63 is corrected by making the following correcting amendments:

PART 63—EXTENSION OF LINES, NEW LINES, AND DISCONTINUANCE, REDUCTION, OUTAGE AND IMPAIRMENT OF SERVICE BY COMMON CARRIERS; AND GRANTS OF RECOGNIZED PRIVATE OPERATING AGENCY STATUS

1. The authority citation for part 63 continues to read as follows:

Authority: Sections 1, 4(i), 4(j), 10, 11, 201-205, 214, 218, 403, and 651 of the Communications Act of 1934, as amended, 47 U.S.C. 151, 154(i), 154(j), 160, 161, 201-205, 214, 218, 403, and 571, unless otherwise noted.

2. Section 63.71 is amended by revising the third sentence in paragraph (a)(5)(i) and the third sentence in paragraph (a)(5)(ii) to read as follows:

§ 63.71 Procedures for discontinuance, reduction or impairment of service by domestic carriers.

* * * * *

(a) * * *

(5) * * *

(i) * * * Address them to the Federal Communications Commission, Wireline Competition Bureau, Competition Policy Division, Washington, DC 20554, and include in your comments a reference to the § 63.71 Application of (carrier's name). * * *

(ii) * * * Address them to the Federal Communications Commission, Wireline Competition Bureau, Competition Policy Division, Washington, DC 20554, and include in your comments a reference to the Section 63.71 Application of (carrier's name). * * *

* * * * *

[FR Doc. E8-22803 Filed 9-29-08; 8:45 am]

BILLING CODE 6712-01-P